DEPARTMENT OF AGRICULTURE

Forest Service

Proposed New Fee Sites: Coconino National Forests

AGENCY: Forest Service, USDA.

ACTION: Notice of proposed new fee sites.

SUMMARY: The Coconino National Forest proposes to charge new fees at two campsites. Fees are based on the level of amenities and services provided, cost of operations and maintenance, and market assessment. New camping fees of $10 per night are proposed for Clint's Well and Kehl Springs. Fees will be determined upon further analysis and public comment. An analysis of nearby campsites with similar amenities shows that the proposed fees are reasonable and typical of similar sites in the area. Funds from fees would be used for the continued operation and maintenance and improvements of these sites.

DATES: Send any comments on the proposed new fees by December 5, 2019. The comments will be compiled, analyzed, and shared with the Recreation Resource Advisory Committee. New fees would begin six months after the date of this publication, if approved.

ADDRESSES: Written comments concerning this notice should be addressed to the Supervisor's Office: Laura Jo West, Forest Supervisor, Coconino National Forest, 1824 S Thompson Street, Flagstaff, AZ 86001.

FOR FURTHER INFORMATION CONTACT: Brady VanDragt, Recreation Program Manager, 928-477-5052. Information about proposed fee changes can also be found on the Coconino National Forests' website: https://www.fs.usda.gov/main/coconino/home.

SUPPLEMENTARY INFORMATION: The Federal Recreation Lands Enhancement Act (Title VII, Pub. L. 108-447) directed the Secretary of Agriculture to publish a six-month advance notice in the Federal Register whenever new recreation fee areas are established. Once public involvement is complete, these proposed fees will be reviewed by a Recreation Resource Advisory Committee prior to a final decision and implementation.

Dated: October 23, 2019.
Richard A. Cooksey,
Acting Associate Deputy Chief, National Forest System.

[FR Doc. 2019-24069 Filed 11-4-19; 8:45 am]

BILLING CODE 3411-15-P